DEPARTMENT OF COMMERCE

National Oceanic and Atmospheric Administration

[RTID 0648-XE828]

Endangered and Threatened Species; Initiation of 5-Year Reviews for Six Foreign Elasmobranch Species

Correction

In notice document 2025-06590, appearing on pages 16109-16110, in the issue of Thursday, April 17, 2025, make the following correction:

On page 16109, in the third column, in the DATES section, in the fourth line, “September 15, 2025.” should read “June 16, 2025.”

[FR Doc. C1-2025-06590 Filed 4-25-25; 8:45 am]

BILLING CODE 0099-10-D